GENERAL SERVICES ADMINISTRATION

[Notice-MG-2019-04; Docket No. 2019-0002; Sequence No. 21]

Office of Federal High-Performance Buildings; Notification of Extension of Public Comment Period

AGENCY: Office of Government-wide Policy (OGP), General Services Administration (GSA).

ACTION: Notice.

SUMMARY: The comment period for Notice MG-2019-03, published in the Federal Register on July 1, 2019, has been extended from Monday, July 15, 2019, to Wednesday, July 31, 2019.

DATES: Comment submissions on GSA's draft recommendations to the Secretary of Energy on high-performance building certification systems are due by Wednesday, July 31st, 2019, at 4:00 p.m., Eastern Time.

FOR FURTHER INFORMATION CONTACT: Mr. Michael Bloom, Office of Federal High-Performance Buildings, OGP, GSA, 1800 F Street NW, Washington, DC 20405, at email address michael.bloom@gsa.gov, or telephone number 312-805-6799.

SUPPLEMENTARY INFORMATION:

Background

Notice MG-2019-03, Office of Federal High-Performance Buildings; Public Comment Period, published in the Federal Register at 84 FR 31320, on July 1, 2019.

Procedures for Attendance and Public Comment

GSA asks that stakeholders compile comments and questions into a single submission per each organization and send them to highperformancebuildings@gsa.gov by Wednesday, July 31, 2019. Please indicate in the subject line the name of your organization and submit your comments either in the body of your email or through a Word or PDF attachment.

Kevin Kampschroer,
Federal Director, Office of Federal High-Performance Buildings, General Services Administration.

[FR Doc. 2019-15328 Filed 7-18-19; 8:45 am]

BILLING CODE 6820-14-P